DEPARTMENT OF THE TREASURY

Office of Thrift Supervision

Privacy Act of 1974, as Amended; System of Records

AGENCY: Office of Thrift Supervision, Treasury.

ACTION: Notice of proposed new system of records.

SUMMARY: In accordance with the requirements of the Privacy Act of 1974, as amended, 5 U.S.C. 552a, the Department of the Treasury, Office of Thrift Supervision (OTS), gives notice of a proposed new system of records entitled “Treasury/OTS.015 —Retiree Billing System.”

DATES: Comments must be received no later than March 11, 2011. This new system of records will be effective March 11, 2011 unless OTS receives comments that would result in a contrary determination.

ADDRESSES: Comments should be sent to the Principal Director, HR Programs and Services, Office of Thrift Supervision, 1700 G Street, NW., Washington, DC 20552. Interested persons may inspect comments at the Public Reading Room, 1700 G Street, NW., by appointment. To make an appointment, call (202) 906-5922, send an e-mail to public.info@ots.treas.gov, or send a facsimile transmission to (202) 906-7755. (Prior notice identifying the materials you will be requesting will assist us in serving you.) Appointments may be scheduled on business days between 10 a.m. and 4 p.m. In most cases, appointments will be available the next business day following the request. All comments received, including attachments and other supporting materials, are part of the public record and subject to public disclosure. You should submit only information that you wish to make publicly available.

FOR FURTHER INFORMATION CONTACT: Avelino Rodriquez, Principal Director, HR Programs and Services, Office of Thrift Supervision, 1700 G Street, NW., Washington, DC 20052. Phone number: 202-906-7141.

SUPPLEMENTARY INFORMATION: Pursuant to the Financial Institutions Reform, Recovery and Enforcement Act (FIRREA) of 1989, the Office of Regulatory Activities (ORA) and its twelve examination districts became a part of OTS. OTS assumed the cost of ORA's retirement system, which is part of the Financial Institutions Retirement Fund (FIRF). Under this private retirement fund, FIRF retirees are entitled to continue health and life insurance after they retire from OTS. OTS also offers a private group life insurance plan to its employees. Employees who opt to participate in the OTS life insurance plan are also entitled to continue this life insurance after they retire from OTS.

The report of a new system of records, as required by 5 U.S.C. 552a(r) of the Privacy Act, has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000.

The proposed new system of records entitled “Treasury/OTS.015—Retiree Billing System” is published in its entirety below.

Dated: January 25, 2011.
Melissa Hartman,
Deputy Assistant Secretary for Privacy, Transparency, and Records.

Treasury/OTS .015

System Name:

Retiree Billing System.

System Location:

Office of Thrift Supervision, 1700 G St., NW., Washington, DC 20552.

Categories of Individuals Covered:

OTS Financial Institutions Retirement Fund (FIRF) retirees and OTS employees retiring under the Civil Service Retirement System or the Federal Employees Retirement System and who participate in the OTS-sponsored life insurance plan.

Categories of Records in the System:

Retirees' names, home phone numbers, mailing addresses, email addresses, and bank account numbers.

Authority for Maintenance of the System:

Title 12 U.S.C. 1462a (h).

Purpose:

The Retiree Billing system is used to bill insurance premiums to both Financial Institutions Retirement Fund (FIRF) employees and employees who retire from OTS and have the OTS sponsored life insurance. The system is used by Payroll Accounting Specialists in the Human Resources office. Retiree name and bank account information is shared with the Financial Management Services (FMS), which is another bureau of the Treasury Department, so that retirees can be properly billed for health/insurance premiums. FMS provides Automated Clearing House (ACH) debit services on behalf of OTS; OTS provides FMS with retiree information so that FMS can perform a debit on the bank account of the retiree for the funds owed to OTS and deposit the money into an OTS account.

Routine Uses of Records Maintained in the system, including categories of users and the purpose of such uses:

Information in these records may be used to:

(1) Make disclosures to a congressional office from the records of an individual in response to an inquiry made at the request of the individual to whom the record pertains;

(2) Representatives of the National Archives and Records Administration (NARA) who are conducting records management inspections under authority of 44 U.S.C. 2904 and 2906.

(3) A contractor for the purpose of full filling a contract, compiling, organizing, analyzing, programming, or otherwise refining records to accomplish an agency function subject to the same limitations applicable to U.S. Department of Treasury officers and employees under the Privacy Act.

(4) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records are maintained in electronic and paper format.

Retrievability:

Records are retrieved by retirees' names or social security numbers.

Safeguards:

Safeguards in place to prevent misuse of data include: role-based user access, the use of userid and authorization code to access the system, and locking paper files when not in use.

Retention and Disposal:

Records are retained and disposed of in accordance with National Archives and Records Administration General Records Schedules.

System Manager(s) and Address:

Managing Director, Human Capital, Office of Thrift Supervision, 1700 G Street, NW., Washington, DC 20052.

Notification procedure:

Individuals wishing to be notified if they are named in this system or to gain access to records maintained in the system must submit a written request that (1) Identifies the record system; (2) identifies the category and type of records sought; and (3) provides (i) a signature, (ii) an address, and (iii) one other item of identification such as a photocopy of a driver's license or other official document bearing the individual's signature. See 31 CFR part 1, subpart C, Appendix L. Address inquiries to FOIA Office, Office of Thrift Supervision, 1700 G Street, NW., Washington, DC 20552.

Records access procedure:

See “Notification procedure” above.

Contesting record procedures:

See “Notification procedure” above.

Record source categories:

OTS retirees and OTS payroll and personnel systems.

Exemptions claimed for the system:

None.

[FR Doc. 2011-2867 Filed 2-8-11; 8:45 am]

BILLING CODE 6720-01-P